DEPARTMENT OF HOMELAND SECURITY

Federal Emergency Management Agency

[Docket ID FEMA-2012-0026]

“Criteria for Preparation and Evaluation of Radiological Emergency Response Plans and Preparedness in Support of Nuclear Power Plants” (NUREG-0654/FEMA-REP-1, Rev. 2)

AGENCY: Federal Emergency Management Agency, DHS.

ACTION: Notice of availability and request for comment.

SUMMARY: The Federal Emergency Management Agency (FEMA) requests public comments on the draft “Criteria for Preparation and Evaluation of Radiological Emergency Response Plans and Preparedness in Support of Nuclear Power Plants” (NUREG-0654/FEMA-REP-1, Rev. 2).

DATES: Comments must be received by August 27, 2015.

ADDRESSES: You may submit comments, identified by Docket ID FEMA-2012-0026, by one of the following methods:

Federal eRulemaking Portal: http://www.regulations.gov. Follow the instructions for submitting comments. Please note that this draft guidance is not a rulemaking and the Federal Rulemaking Portal is being utilized only as a mechanism for receiving comments.

Mail/Hand Delivery/Courier: Regulatory Affairs Division, Office of Chief Counsel, Federal Emergency Management Agency, 500 C Street SW., Washington, DC 20472.

FOR FURTHER INFORMATION CONTACT: William Eberst, Policy Supervisor, Professional Services Branch, Technological Hazards Division, Protection and National Preparedness Directorate, william.eberst@fema.dhs.gov. (202) 341-4917.

SUPPLEMENTARY INFORMATION:

I. Public Participation

Instructions: All submissions received must include the agency name and Docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link on the homepage of www.regulations.gov.

You may submit your comments and material by methods specified in the ADDRESSES section above. Please submit your comments and any supporting material by only one means to avoid the receipt and review of duplicate submissions.

Docket: The draft guidance is available in Docket ID FEMA-2012-0026. For access to the docket to read background documents or comments received, go to the Federal eRulemaking Portal at http://www.regulations.gov and search for the Docket ID. Submitted comments may also be inspected at FEMA, Office of Chief Counsel, 500 C Street SW., Washington, DC 20472.

II. Background

In November 1980, the Federal Emergency Management Agency issued “Criteria for Preparation and Evaluation of Radiological Emergency Response Plans and Preparedness in Support of Nuclear Power Plants” (NUREG-0654/FEMA-REP-1, Rev. 1) jointly with the Nuclear Regulatory Commission (NRC) as a joint policy document. (45 FR 85862, December 30, 1980).

NUREG-0654/FEMA-REP-1, Rev. 1 was issued as a joint FEMA/NRC policy document that provides guidance on the sixteen Planning Standards referenced in FEMA's regulations at 44 CFR 350.5 and the NRC's regulations at 10 CFR part 50. Both agencies use these Planning Standards to evaluate the adequacy of the emergency plans of commercial nuclear power plant owners and operators, and the emergency plans and preparedness of State and local governments within the Emergency Planning Zones surrounding commercial nuclear power plants.

Since the publication of NUREG-0654/FEMA-REP-1, Rev. 1 in 1980, four supplementary documents and one addendum (66 FR 22270, May 3, 2001) have been issued that update and modify specific planning and procedural elements. These documents are available online at http://www.regulations.gov (Docket ID FEMA-2012-0026). FEMA and the NRC are considering revising NUREG-0654/FEMA-REP-1, Rev. 1 to address stakeholder interest and the various emergency planning and preparedness lessons learned since its initial publication.

Since the publication of these documents, there have been changes to FEMA and NRC regulations, guidance, policies and advances in technology. FEMA, working with the NRC, is soliciting comments from stakeholders and interested members of the public on the draft document “Criteria for Preparation and Evaluation of Radiological Emergency Response Plans and Preparedness in Support of Nuclear Power Plants,” NUREG-0654/FEMA-REP-1, Rev. 2. The document is available online at http://www.regulations.gov (Docket ID FEMA-2012-0026).

FEMA and the NRC held two public meetings on August 22, 2012 and September 13, 2012 as well as two public stakeholder engagement sessions held on October 29-31, 2013 and June 25, 2014. The purpose of these public meetings were to: (1) Solicit input from stakeholders and interested members of the public on the scope of future revisions to NUREG-0654/FEMA-REP-1, Rev.1; (2) describe the proposed timeline for the revisions to NUREG-0654/FEMA-REP-1, Rev.1; (3) promote transparency, public participation, and collaboration during the NUREG-0654/FEMA-REP-1, Rev.1 revision process; and (4) allow direct input to the writing teams during the writing process. All of the presentation material and meeting notes are available to review online at http://www.regulations.gov (Docket ID FEMA-2012-0026).

Through this Notice, FEMA and NRC are soliciting comments from stakeholders and interested members of the public on the draft document NUREG-0654/FEMA-REP-1, Rev. 2.

FEMA seeks comment on the draft guidance, which is available online at http://www.regulations.gov in Docket ID FEMA-2012-0026. Based on the comments received, FEMA may make appropriate revisions to the draft document. FEMA will consider any comments received in the drafting of the final policy. When FEMA issues a final policy, FEMA will publish a notice of availability in the Federal Register and make the final policy available at http://www.regulations.gov. The final policy will not impose legally binding requirements.

Authority: NRC Authorization Acts of 1980 (Pub. L. 96-295) and 1982-1983 (Pub. L. 97-415); Robert T. Stafford Disaster Relief and Emergency Assistance Act, as amended, Titles II and VI, Sections 201 and 611, 42 U.S.C. 5131 and 5196; Homeland Security Act of 2002, as amended, Title VI, Chapter 1, Subchapter V, Sections 503 and 504, 6 U.S.C. 313 and 314; Security and Accountability for Every Port Act of 2006, Title V, Section 612, 6 U.S.C. 314a; Department of Veterans Affairs and Housing and Urban Development, and Independent Agencies Appropriations for 1999, 42 U.S.C. 5196e; Post-Katrina Emergency Management Reform Act of 2006, Title VI, Sections 602, 642, 643, and 644, 6 U.S.C. 701, 742, 743, and 744; Reorganization Plan No. 3 of 1978; E.O. 12241, as amended; E.O. 12127, as amended. E.O. 12148, as amended; E.O. 12657, as amended; FEMA's regulations in Title 44, Chapter I, Parts 350-354 of the CFR.

Dated: May 4, 2015.
W. Craig Fugate,
Administrator, Federal Emergency Management Agency.

[FR Doc. 2015-13023 Filed 5-28-15; 8:45 am]

BILLING CODE 9111-21-P